DEPARTMENT OF COMMERCE

International Trade Administration

[A-552-814]

Utility Scale Wind Towers From the Socialist Republic of Vietnam: Final Determination of No Shipments; Antidumping Duty Administrative Review; 2016-2017

AGENCY: Enforcement and Compliance, International Trade Administration, Department of Commerce.

SUMMARY: The Department of Commerce (Commerce) is issuing a final no shipments determination in the final results of the antidumping duty administrative review on utility scale wind towers (wind towers) from the Socialist Republic of Vietnam (Vietnam) because Commerce continues to find that CS Wind Group did not have any shipments of subject merchandise by CS Wind Group during the period of review (POR). This review covers CS Wind Group where the company was the producer but not the exporter, or the exporter but not the producer of subject merchandise.

DATES: Applicable March 14, 2018.

FOR FURTHER INFORMATION CONTACT: Trisha Tran, AD/CVD Operations, Office IV, Enforcement and Compliance, International Trade Administration, U.S. Department of Commerce, 1401 Constitution Avenue NW, Washington, DC 20230; telephone: (202) 482-4852.

SUPPLEMENTARY INFORMATION:

Background

On May 31, 2017, Commerce published its Amended Initiation Notice.¹ According to the Amended Initiation Notice, Commerce stated it was initiating an administrative review only on entries where CS Wind Group was (1) the producer but not the exporter, or (2) the exporter but not the producer of subject merchandise. On November 6, 2017, Commerce published the Preliminary Results.² The POR is February 1, 2016, through January 31, 2017. We invited interested parties to comment on the Preliminary Results. No party provided comments. Commerce has conducted this administrative review in accordance with section 751(a)(1) of the Tariff Act of 1930, as amended (the Act).

¹ See Utility Scale Wind Towers from the Socialist Republic of Vietnam: Notice of Amended Initiation of Antidumping Duty Administrative Review; 2016-2017, 82 FR 24943 (May 31, 2017) (Amended Initiation Notice). In the Amended Initiation Notice, Commerce stated that it inadvertently initiated an administrative review on all entries of merchandise exported by CS Wind Group. Because wind towers that are produced and exported by CS Wind Group were excluded from the antidumping duty order on wind towers from Vietnam effective March 26, 2017, Commerce clarified in the Amended Initiation Notice that we should only have initiated the administrative review on wind towers produced in Vietnam with respect to the CS Wind Group where CS Wind Group was (1) the producer but not the exporter, or (2) the exporter but not the producer. To correct this error in the Initiation Notice, Commerce explained it was issuing the Amended Initiation Notice with respect to the CS Wind Group. More specifically, Commerce stated it was initiating an administrative review only on entries where CS Wind Group was (1) the producer but not the exporter, or (2) the exporter but not the producer of subject merchandise.

² See Utility Scale Wind Towers from the Socialist Republic of Vietnam: Preliminary Determination of No Shipments, and Preliminary Partial Rescission of Antidumping Duty Administrative Review, 2016-2017, 82 FR 51386 (November 6, 2017) (Preliminary Results).

Scope of the Order

The merchandise covered by this order are certain wind towers, whether or not tapered, and sections thereof. Certain wind towers are designed to support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with nonsubject merchandise, such as nacelles or rotor blades, and whether or not they have internal or external components attached to the subject merchandise.

Specifically excluded from the scope are nacelles and rotor blades, regardless of whether they are attached to the wind tower. Also excluded are any internal or external components which are not attached to the wind towers or sections thereof.

Merchandise covered by the order is currently classified in the Harmonized Tariff System of the United States (HTSUS) under subheadings 7308.20.0020 ³ or 8502.31.0000.⁴ Prior to 2011, merchandise covered by the order was classified in the HTSUS under subheading 7308.20.0000 and may continue to be to some degree. While the HTSUS subheadings are provided for convenience and customs purposes, the written description of the scope of the order is dispositive.

³ Wind towers are classified under HTSUS 7308.20.0020 when imported as a tower or tower section(s) alone.

⁴ Wind towers may also be classified under HTSUS 8502.31.0000 when imported as part of a wind turbine (i.e., accompanying nacelles and/or rotor blades).

Final Determination of No Shipments

As explained above, in the Preliminary Results, Commerce found that CS Wind Group did not have any shipments of subject merchandise during the POR where CS Wind Group was (1) the producer but not the exporter, or (2) the exporter but not the producer of subject merchandise. Also, in the Preliminary Results, consistent with Commerce's assessment practice in non-market economy cases, Commerce stated it was not rescinding this review but intended to complete the review with respect to CS Wind Group for which it had preliminarily found no shipments and issue appropriate instructions to U.S. Customs and Border Protection (CBP) based on the final results of the review.⁵

⁵ See Preliminary Results at 82 FR 51387.

After issuing the Preliminary Results, Commerce received no comments from interested parties, and has not received any information that would cause it to alter our preliminary determination of no shipments. Therefore, for these final results, Commerce continues to find that CS Wind Group did not have any shipments of subject merchandise during the POR where CS Wind Group was (1) the producer but not the exporter, or (2) the exporter but not the producer of subject merchandise. As Commerce received no comments or new information for consideration in these final results, Commerce has not prepared an Issues and Decision Memorandum for this administrative review.

Assessment Rates

Commerce has determined, and CBP shall assess, antidumping duties on all appropriate entries of subject merchandise in accordance with the final results of this review.⁶ Commerce intends to issue assessment instructions to CBP 15 days after the date of publication of these final results of review. Additionally, because Commerce determined that CS Wind Group had no shipments of subject merchandise during the POR, any suspended entries that entered under CS Wind Group's antidumping duty case number (i.e., at that exporter's rate) will be liquidated at the Vietnam-wide rate.⁷

⁶ See 19 CFR 351.212(b).

⁷ See Non-Market Economy Antidumping Proceedings: Assessment of Antidumping Duties, 76 FR 65694 (October 24, 2011), for a full discussion of this practice.

Cash Deposit Requirements

The following cash deposit requirements will be effective upon publication of the final results of this administrative review for all shipments of the subject merchandise entered, or withdrawn from warehouse, for consumption on or after the publication date, as provided by section 751(a)(2)(C) of the Act: (1) For CS Wind Group, which claimed no shipments, the cash deposit rate will remain unchanged from the rate assigned to CS Wind Group in the most recently issued Notice of Court Decision Not in Harmony with the Final Determination of Less Than Fair Value Determination; ⁸ (2) for previously investigated Vietnam and non-Vietnam exporters that received a separate rate in a prior segment of this proceeding, the cash deposit rate will continue to be the existing exporter-specific rate; (3) for all Vietnam exporters of subject merchandise that have not been found to be entitled to a separate rate, the cash deposit rate will be the rate previously established for the Vietnam-wide entity (i.e., 58.54 percent); and (4) for all non-Vietnam exporters of subject merchandise which have not received their own rate, the cash deposit rate will be the rate applicable to the Vietnam exporter that supplied that non-Vietnam exporter. These deposit requirements, when imposed, shall remain in effect until further notice.

⁸ See Utility Scale Wind Towers from the Socialist Republic of Vietnam: Notice of Court Decision Not in Harmony With the Final Determination of Less Than Fair Value Investigation and Notice of Amended Final Determination of Investigation, 82 FR 15493 (March 29, 2017).

Notifications

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

In accordance with 19 CFR 351.305(a)(3), this notice also serves as a reminder to parties subject to administrative protective order (APO) of their responsibility concerning the return or destruction of proprietary information disclosed under APO, which continues to govern business proprietary information in this segment of the proceeding. Timely written notification of the return or destruction of APO materials, or conversion to judicial protective order, is hereby requested. Failure to comply with the regulations and terms of an APO is a sanctionable violation.

These final results of this administrative review and notice are published in accordance with sections 751(a)(l) and 777(i)(l) of the Act and 19 CFR 351.213(h).

Dated: March 8, 2018.
Gary Taverman,
Deputy Assistant Secretary for Antidumping and Countervailing Duty Operations, performing the non-exclusive functions and duties of the Assistant Secretary for Enforcement and Compliance.

[FR Doc. 2018-05151 Filed 3-13-18; 8:45 am]

BILLING CODE 3510-DS-P